SMALL BUSINESS ADMINISTRATION

[Disaster Declaration #11169 and #11170]

Arkansas Disaster Number AR-00015

AGENCY: U.S. Small Business Administration.

ACTION: Amendment 2.

SUMMARY: This is an amendment of the Presidential declaration of a major disaster for the State of Arkansas (FEMA-1744-DR), dated 02/08/2008.

Incident: Severe storms, tornadoes, and flooding.

Incident Period: 02/05/2008 and continuing.

DATES: Effective Date: 02/20/2008.

Physical Loan Application Deadline Date: 04/08/2008.

EIDL Loan Application Deadline Date: 11/10/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Arkansas , dated 02/08/2008 is hereby amended to include the following areas as adversely affected by the disaster:

Primary Counties:

Marion, Union.

Contiguous Counties:

Arkansas: Ashley, Boone, Bradley, Calhoun, Columbia, Ouachita.

Louisiana: Claiborne, Morehouse, Union.

Missouri: Taney.

All other information in the original declaration remains unchanged.

(Catalog of Federal Domestic Assistance Numbers 59002 and 59008)

James E. Rivera,
Acting Associate Administrator for Disaster Assistance.

[FR Doc. E8-3860 Filed 2-28-08; 8:45 am]

BILLING CODE 8025-01-P